DEPARTMENT OF TRANSPORTATION

Federal Aviation Administration

14 CFR Part 71

[Airspace Docket No. 00-AAL-13]

Establishment of Class E Airspace; Cape Romanzof, AK

AGENCY: Federal Aviation Administration (FAA), DOT.

ACTION: Final rule.

SUMMARY: This action establishes Class E airspace at the Long Range Radar site (LRRS) at Cape Romanzof, AK. The United States Air Force requested this action to create controlled airspace for the instrument approach and departure procedures to runway (RWY) 02 and RWY 20 at Cape Romanzof, AK. This action is necessary in order for the approach and departure procedures to be published in the U.S. Government Flight Information Publication, U.S. Terminal Procedures—Alaska. This rule provides adequate controlled airspace for aircraft flying Instrument Flight Rules (IFR) operations at Cape Romanzof, AK.

EFFECTIVE DATE: 0901 UTC, March 22, 2001.

FOR FURTHER INFORMATION CONTACT: Major Roger Stirm, Department of the Air Force Representative, Federal Aviation Administration, 222 West 7th Avenue, Box 14, Anchorage, AK 99513-7587; telephone number (907) 271-5892; fax: (907) 271-2850; email: Roger.Stirm@faa.gov. Internet address: http://www.alaska.faa.gov/at or at address http://162.58.28.41/at.

SUPPLEMENTARY INFORMATION:

History

On September 25, 2000, a proposal to amend part 71 of the Federal Aviation Regulations (14 CFR part 71) to revise the Class E airspace at Cape Romanzof, AK, was published in the Federal Register (65 FR 57571). The proposal was requested by the U.S. Air Force to create controlled airspace for the instrument approach and departure procedures to RWY 02 and RWY 20 at Cape Romanzof, AK. This action is necessary in order for the approach and departure procedures to be published in the U.S. Government Flight Information Publication, U.S. Terminal Procedures—Alaska. This rule provides adequate controlled airspace for aircraft flying IFR operations at Cape Romanzof, AK.

Interested parties were invited to participate in this rulemaking proceeding by submitting written comments on the proposal to the FAA. Public comments to the proposal were submitted by a commenter representing both the Alaska Airmen's Association and the Alaska Communication Systems (ACS). The commenter had concerns on the size and orientation of the proposed Class E airspace. The U.S. Air Force, in a 28 November 2000 letter to the FAA and commenter, pointed out that the procedures used by the commenter to evaluate airspace needs were not developed by the U.S. Air Force and therefore have no validity in correctly analyzing the requested airspace. Furthermore, the U.S. Air Force revalidated the computations for the requested airspace and ensured that the U.S. Air Force minimized the amount of controlled airspace required in accordance with FAA Order 7130.3. The FAA has considered these comments and determined that the requested airspace is needed to provide adequate controlled airspace for aircraft flying IFR operations in the vicinity of Cape Romanzof, AK. The airspace description does overlap the existing Hooper Bay and Yukon-Kuskokwim Class E airspace and the exclusionary verbiage was inadvertently left out. The following verbiage has been added to the end of the airspace description: “excluding the existing Class E airspace.” The FAA has determined that this change is editorial in nature and will not increase the scope of this rule. Except for the non-substantive change just discussed, the rule is adopted as written.

The area will be depicted on aeronautical charts for pilot reference. The coordinates for this airspace docket are based on North American Datum 83. The Class E airspace areas designated as 700/1200 foot transition areas are published in paragraph 6005 of FAA Order 7400.9H, Airspace Designations and Reporting Points, dated September 1, 2000, and effective September 16, 2000, which is incorporated by reference in 14 CFR 71.1. The Class E airspace designations listed in this document will be revised and published subsequently in the Order.

The Rule

This amendment to 14 CFR part 71 establishes Class E airspace at Cape Romanzof, AK, through a request by the U.S. Air Force to create controlled airspace for the instrument approach and departure procedures to RWY 02 and from RWY 20 at Cape Romanzof, AK. This action is necessary in order for the approach and departure procedures to be published in the U.S. Government Flight Information Publication, U.S. Terminal Procedures—Alaska. The area will be depicted on aeronautical charts for pilot reference. The intended effect of this rule is to provide adequate controlled airspace for IFR operations at Cape Romanzof, AK.

The FAA has determined that this regulation only involves an established body of technical regulations for which frequent and routine amendments are necessary to keep them operationally current. It, therefore —(1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of Federal Aviation Administration Order 7400.9H, Airspace Designations and Reporting Points, dated September 1, 2000, and effective September 16, 2000, is amended as follows:

* * * * *

Paragraph 6005 Class E airspace extending upward from 700 feet or more above the surface of the earth.

* * * * *

AAL AK E5 Cape Romanzof, AK [New]

Cape Romanzof LRRS, AK

(Lat. 61° 46′ 49″ N., long. 166° 02′ 19″ W.)

That airspace extending upward from 700 feet above the surface within a 7 mile radius of the Cape Romanzof LRRS; and that airspace extending upward from 1,200 feet above the surface from lat. 61° 54′ 30″ N long. 166° 10′ 00″ W, counterclockwise to lat. 61° 40′ 00″ N long. 167° 00′ 00″ W, to lat. 61° 30′ 00″ N long. 167° 10′ 00″ W, to lat. 61° 20′ 00″ N long. 167° 10′ 00″ W, to lat. 61° 20′ 00″ N long. 166° 30′ 00″ W, to lat. 61° 40′ 00″ N long. 165° 49′ 00″ W, thence to the point of beginning, excluding the existing Class E airspace.

* * * * *

Issued in Anchorage, AK, on January 16, 2001.
Stephen P. Creamer,
Assistant Manager, Air Traffic Division, Alaskan Region.

[FR Doc. 01-2236 Filed 1-29-01; 8:45 am]

BILLING CODE 4910-13-P